SMALL BUSINESS ADMINISTRATION

[License No. 06/06-0349]

Main Street Capital III, L.P.; Notice Seeking Exemption Under Section 312 of the Small Business Investment Act, Conflicts of Interest

Notice is hereby given that Main Street Capital III, L.P., 1300 Post Oak Blvd., Suite 800, Houston, TX 77056, a Federal Licensee under the Small Business Investment Act of 1958, as amended (the “Act”), in connection with a financing involving small concern NuStep, LLC located at 511 Venture Drive, Ann Arbor, MI 48108, provided notice of this transaction to the Small Business Administration (“SBA”) pursuant to the Regulations found at 13 CFR 107.730—13 CFR 107.730—Financings which constitute conflicts of interests. NuStep, LLC is an Associate of Main Street Capital III, L.P. because Associate Main Street Equity Investment, Inc. owns a greater than ten percent interest in the NuStep, LLC.

This financing is pursuant to § 107.730(f) of the Regulations because Main Street Capital III, L.P.'s parent corporation, Main Street Capital Corporation, is registered under the Investment Company Act of 1940 and received an exemption from the Securities and Exchange Commission for the transaction and fulfilled its requirement to notify SBA.

Notice is hereby given that any interested person may submit written comments on the transaction within fifteen days of the date of this publication, to the Associate Administrator, Office of Investment and Innovation, U.S. Small Business Administration, 409 Third Street SW, Washington, DC 20416.

U.S. Small Business Administration.
Bailey DeVries,
Associate Administrator, Office of Investment and Innovation.

[FR Doc. 2022-06219 Filed 3-23-22; 8:45 am]

BILLING CODE P